CONSUMER PRODUCT SAFETY COMMISSION

Proposed Collection of Information; Comment Request—Procurement of Goods and Services

AGENCY: Consumer Product Safety Commission.

ACTION: Notice.

SUMMARY: As required by the Paperwork Reduction Act (44 U.S.C. Chapter 35), the Consumer Product Safety Commission requests comments on a proposed extension of approval for a period of three years from the date of approval of a collection of information associated with the procurement of goods and services. Forms used by the Commission for procurement of goods and services request persons who quote, propose, or bid on contracts to provide information needed to evaluate quotes, proposals, and bids in accordance with applicable laws and regulations.

The Commission will consider all comments received in response to this notice before requesting extension of approval of this collection of information from the Office of Management and Budget (OMB).

DATES: The Office of the Secretary must receive comments not later than November 15, 2002.

ADDRESSES: Written comments should be captioned “Procurement of Goods and Services; Paperwork Reduction Act,” and mailed to the Office of the Secretary, Consumer Product Safety Commission, Washington, D.C. 20207, or delivered to that office, room 502, 4330 East-West Highway, Bethesda, Maryland 20814. Written comments may also be sent to the Office of the Secretary by facsimile at (301) 504-0127 or by e-mail at cpsc-os@cpsc.gov.

FOR FURTHER INFORMATION CONTACT: For information about the proposed collection of information call or write Linda L. Glatz, Management and Program Analyst, Office of Planning and Evaluation, Consumer Product Safety Commission, Washington, D.C. 20207; (301) 504-0416, Ext. 2226.

SUPPLEMENTARY INFORMATION: The Commission's procurement of goods and services is governed by the Federal Property and Administrative Services Act of 1949, as amended (41 U.S.C. 253 et seq.). That law requires the Commission to procure goods and services under conditions most advantageous to the government, considering cost and other factors.

A. Information Required by Procurement Forms

The Commission requires persons and firms to submit quotations, proposals, and bids for contracts to provide goods and services on standardized forms. These forms request information from offerors about costs or prices of goods and services to be supplied; specifications of goods and descriptions of services to be delivered; competence of the offeror to provide the goods or services; and other information about the offeror such as the size of the firm and whether it is minority owned. The Commission uses the information provided by offerors to determine the reasonableness of prices and costs and the responsiveness of potential contractors to undertake the work involved so that all bids may be awarded in accordance with Federal procurement laws.

OMB approved the collection of information requirements in the procurement forms used by the Commission under control number 3041-0059. OMB's most recent extension of approval will expire on November 30, 2002. The CPSC now proposes to request extension of approval for the information collection requirements in the forms used for procurement of goods and services. The Commission plans to use the Internet and the General Services Administration's (GSA) GSA Advantage! System for delivery order purchasing. The Internet provides small businesses access to information about the Commission's current needs for goods and services.

B. Information Collection Burden

During fiscal year 2001, approximately 2,539 firms spent about 14,174 hours responding to all Requests for Quotations (RFQs), and Requests for Proposals (RFPs) issued by the Commission. The time required by vendors to respond ranged from as little as 10 to 15 minutes per firm for a simple telephone, e-mail, fax, or Internet response concerning the purchase of a standard item or service, to as much as 100-200 hours per firm for a complex written offer prepared in response to technically complex RFQs and RFPs. Based on the number of procurements, details of actions reported by the Federal Procurement Data System, and the procurement staff's experience with the sales and technical functions of various vendors, we believe firms spent an estimated 11,624 hours responding to oral, electronic, and written RFQs and RFPs and approximately 2,550 hours preparing quotes and proposals in response to more complex RFQs and RFPs. The cost of preparing a response to an oral, electronic, or written RFQ or RFP is estimated to be approximately $36 per hour for regular sales staff and $55 per hour for high level sales staff with advanced technical expertise for more complex procurements (based on Web search at the Career Journal from the Wall Street Journal and Salary.com and research of salary tables from “Sales and Marketing Management” magazine dated May 2001). The annualized cost to all firms for responding to all RFQs and RFPs issued by the Commission is estimated to be $558,714 (11,624 hours × $36/hr + 2,550 hours × $55/hr = $558,714).

The total cost to the government for all collections of information by the Commission related to procurement of goods and services is estimated to be about $972,187 a year. This estimate was made by reviewing the Commission's procurement activities in fiscal year 2001.

C. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: September 10, 2002.
Todd Stevenson,
Secretary, Consumer Product Safety Commission.

[FR Doc. 02-23454 Filed 9-13-02; 8:45 am]

BILLING CODE 6355-01-P